DEPARTMENT OF HEALTH AND HUMAN SERVICES

Centers for Disease Control and Prevention

Disease, Disability, and Injury Prevention and Control Special Interest Projects (SIPs): SIP 10-029, Pilot Study—Cancer Survivorship Care Planning & SIP 10-030, Evaluating Special Events as a Recruitment Strategy for Cancer Screening, Initial Review

In accordance with Section 10(a)(2) of the Federal Advisory Committee Act (Pub. L. 92-463), the Centers for Disease Control and Prevention (CDC) announces the aforementioned meeting:

TIME AND DATE: 8:30 a.m.-6 p.m., June 9, 2010 (Closed).

PLACE: W Hotel—Buckhead, 3377 Peachtree Road NE., Atlanta, GA 30326, (678) 500-3100.

STATUS: The meeting will be closed to the public in accordance with provisions set forth in Section 552b(c) (4) and (6), Title 5 U.S.C., and the Determination of the Director, Management Analysis and Services Office, CDC, pursuant to Public Law 92-463.

MATTERS TO BE DISCUSSED: The meeting will include the initial review, discussion, and evaluation of applications received in response to “SIP 10-029, Pilot Study—Cancer Survivorship Care Planning & SIP 10-030, Evaluating Special Events as a Recruitment Strategy for Cancer Screening.”

CONTACT PERSON FOR MORE INFORMATION: Michelle Mathieson, Public Health Analyst, National Center for Chronic Disease and Health Promotion, Office of the Director, Extramural Research Program Office, CDC, 4770 Buford Highway, NE., Mailstop K-92, Atlanta, GA 30341, Telephone: (770) 488-3068, E-mail: mth8@cdc.gov.

The Director, Management Analysis and Services Office, has been delegated the authority to sign Federal Register notices pertaining to announcements of meetings and other committee management activities, for both CDC and the Agency for Toxic Substances and Disease Registry.

Dated: May 14, 2010.
Elaine L. Baker,
Director, Management Analysis and Services Office, Centers for Disease Control and Prevention.

[FR Doc. 2010-12212 Filed 5-20-10; 8:45 am]

BILLING CODE 4163-18-P